DEPARTMENT OF ENERGY

Federal Energy Regulatory Commission

[Docket No. CP06-12-000]

Gulf LNG Energy, LLC; Notice of Technical Conference

February 27, 2006.

On Wednesday, March 8, 2006, at 8:30 a.m. (CST), staff of the Office of Energy Projects will convene a cryogenic design and technical conference regarding the proposed Gulf LNG Energy Project. The cryogenic conference will be held in the Ashbury Hotel & Suites located at 600 South Beltline Highway, Mobile, AL 36608. For hotel details call (251) 706-3572.

In view of the nature of critical energy infrastructure information and security issues to be explored, the cryogenic conference will not be open to the public. Attendance at this conference will be limited to existing parties to the proceeding (anyone who has specifically requested to intervene as a party) and to representatives of interested Federal, state, and local agencies. Any person planning to attend the March 8th cryogenic conference must register by close of business on Monday, March 6, 2006. Registrations may be submitted either online at https://www.ferc.gov/whats-new/registration/cryo-conf-form.asp or by faxing a copy of the form (found at the referenced online link) to 202-208-0353. All attendees must sign a non-disclosure statement prior to entering the conference. Upon arrival at the community center, check the reader board in the lobby area for the venue. For additional information regarding the cryogenic conference, please contact Thach Nguyen at 202-502-6364.

Magalie R. Salas,
Secretary.

[FR Doc. E6-2874 Filed 2-28-06; 8:45 am]

BILLING CODE 6717-01-P